ENVIRONMENTAL PROTECTION AGENCY

[OPP-2004-0062; FRL-7677-7]

Exposure Modeling Work Group; Notice of Public Meeting

AGENCY: Environmental Protection Agency (EPA).

ACTION: Notice.

SUMMARY: The Exposure Modeling Work Group (EMWG) will hold a one-day meeting on October 4, 2004. This notice announces the location and time for the meeting and sets forth the tentative agenda topics.

DATES: The meeting will be held on October 4, 2004, from 9 a.m. to 3 p.m.

ADDRESSES: The meeting will be held at the Office of Pesticide Programs (OPP), Environmental Protection Agency, Crystal Mall #2, Room 1126 (Fishbowl), 1801 South Bell Street, Arlington, VA 22202.

FOR FURTHER INFORMATION CONTACT: James C. Lin, Environmental Fate and Effects Division (7507C), Office of Pesticide Programs, Environmental Protection Agency, 1200 Pennsylvania Ave., NW., Washington, DC 20460-0001; telephone number: (703) 308-9591; fax number: (703) 305-6309; e-mail address: lin.james@epa.gov.

SUPPLEMENTARY INFORMATION:

I. General Information

A. Does this Action Apply to Me?

This action is directed to the public in general, and may be of particular interest to those persons who are or may be required to conduct testing of chemical substances under the Toxic Substances Control Act (TSCA), the Federal, Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0062. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1801 S. Bell Street, Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. Background

On a quarterly interval, the Exposure Modeling Workgroup meets to discuss current issues in modeling pesticide fate, transport, and exposure to pesticides in support of risk assessment in a regulatory context.

III. How Can I Request to Participate in this Meeting?

You may submit a request to participate in this meeting to the person listed under FOR FURTHER INFORMATION CONTACT.

IV. Tentative Agenda

1. Welcome and Introductions

2. Old Action Items

3. Brief Updates

- PRZM/EXAMS model, EXPRESS (RD Jones, L. Burns)

- Review of Public Comments on EFED's Modeling Scenarios (RD Jones)

- Terrestrial Field Dissipation / New Technical Document (M. Corbin)

- Direct Application of Herbicides to Water Bodies (M. Corbin)

- Spray Drift Update (N. Birchfield)

- Cumulative Drinking Water Assessment - Methods Review (N. Thurman)

V. Major Topics

• ILSI Risk Science Institute Project on CARES (B. Julien)

• Overview of CARES with a Focus on Drinking Water Assessment (S. Jackson)

• Ground Water Mapping Using Classification And Regression Tree Analysis: An EarthSat Approach (J. Cooper, F. Smith)

• EFED Ground Water Modeling Development Effort (D. Young)

• Evaluation of Vadose Zone Solute Transport Models (T. Nolan)

• Assessing the Vulnerability of Ground Water to Contamination - Recent Approaches and Future Prospects (J. Barbash)

List of Subjects

Environmental protection, Modeling, Pesticides, Pests.

Dated: September 10, 2004.
Steve Bradbury,
Director, Environmental Fate and Effects Division, Office of Pesticide Programs.

[FR Doc. 04-20985 Filed 9- 16-04 8:45 am]

BILLING CODE 6560-50-S